DEPARTMENT OF TRANSPORTATION

Federal Motor Carrier Safety Administration

[Docket Nos. FMCSA-2006-26367 and FMCSA-2011-0131]

Public Meeting of Motor Carrier Safety Advisory Committee and Joint Public Meeting With Medical Review Board

AGENCY: Federal Motor Carrier Safety Administration (FMCSA), DOT.

ACTION: Notice.

SUMMARY: FMCSA announces that MCSAC will hold a meeting on Monday-Thursday, December 5-8, 2011, which will include a joint meeting on Wednesday, December 7, 2011, with the MRB. All four days of the meeting will be open to the public for their duration.

DATES: Time and Dates: The MCSAC meeting will be held on Monday-Tuesday, December 5-6, 2011, from 8:30 a.m. to 5 p.m., Eastern Time (E.T.), and on Thursday, December 8, 2011, from 8:30 a.m. to 12 p.m., E.T. On Tuesday, December 6, 2011, the Cross-Border Trucking Pilot Program subcommittee will meet from 3:15 p.m. to 4:30 p.m., E.T. Additionally, the joint MCSAC-MRB meeting will be held on Wednesday, December 7, 2011, from 8:30 a.m. to 5 p.m., E.T. The meetings will be held at the Hilton Alexandria Old Town, 1767 King Street, Alexandria, VA 22314 in the Washington and Jefferson Rooms on the 2nd floor. The Hilton Alexandria Old Town is located across the street from the King Street Metro station.

Matters To Be considered: The MCSAC will consider the report of its EOBR Implementation Subcommittee established in response to Task 11-04. The MCSAC will also return to Task 11-02 regarding roadside violation severity weightings in the Carrier Safety Measurement System in FMCSA's CSA program and will meet to be updated on data regarding the cross border trucking pilot program with Mexico. Additionally, during their joint meeting, the MCSAC and MRB will consider expert presentations on obstructive sleep apnea and its relationship to the population of CMV drivers. Finally, the MCSAC will meet to be updated on recently completed, FMCSA-sponsored research on motorcoach HOS and to begin the process of setting up a subcommittee to consider ideas and concepts on motorcoach HOS for recommendation to the MCSAC and for its consideration and submission to the FMCSA Administrator. Copies of all MCSAC Task Statements and an agenda for the entire 4-day meeting are available at http://mcsac.fmcsa.dot.gov.

FOR FURTHER INFORMATION CONTACT: Ms. Shannon L. Watson, Senior Advisor to the Associate Administrator for Policy, Federal Motor Carrier Safety Administration, U.S. Department of Transportation, 1200 New Jersey Avenue SE., Washington, DC 20590, (202) 385-2395, mcsac@dot.gov.

Services for Individuals with Disabilities:

For information on facilities or services for individuals with disabilities or to request special assistance at the meeting, contact Elizabeth Turner at (617) 494-2068, elizabeth.turner@dot.gov, by Wednesday, November 30, 2011.

SUPPLEMENTARY INFORMATION:

I. Background

MCSAC

Section 4144 of the Safe, Accountable, Flexible, Efficient Transportation Equity Act: A Legacy for Users (SAFETEA-LU, Pub. L. 109-59, 119 Stat. 1144, August 10, 2005) required the Secretary of Transportation to establish the MCSAC. The MCSAC provides advice and recommendations to the FMCSA Administrator on motor carrier safety programs and regulations, and operates in accordance with the Federal Advisory Committee Act (FACA, 5 U.S.C. App 2).

MRB

Section 4116 of the SAFETEA-LU requires the Secretary of Transportation, with the advice of the MRB, to “establish, review, and revise medical standards for operators of CMVs that will ensure that the physical condition of operators of CMVs is adequate to enable them to operate the vehicles safely.” On November 2, 2010, the Secretary of Transportation announced the five medical experts who serve on the MRB. FMCSA is planning revisions to the physical qualification regulations of CMV drivers, and the MRB will provide the necessary science-based guidance to establish realistic and responsible medical standards. The MRB operates in accordance with FACA.

Sleep Apnea and Other Sleep Disorders

The MCSAC and the MRB will discuss ideas and concepts the Agency should consider for regulatory guidance or future rulemaking on obstructive sleep apnea.

EOBR Implementation Task

The MCSAC EOBR Implementation Subcommittee will report back to the full committee on its work on Task 11-04, examining technical issues relating to the electronic transfer of hours-of service information from trucks to law enforcement personnel at the roadside.

Roadside Violation Severity Weightings Task

The MCSAC will continue its deliberations on Task 11-02, concerning violation severity weightings under the CSA program.

Cross Border Trucking Pilot Program Task

The MCSAC Subcommittee will receive an update on the opening of the Southern Border to long-haul Mexican trucks.

Hours-of-Service for Passenger-Carrying Drivers of CMVs

The MCSAC will begin consideration of Task 11-06, to begin the process of setting up a subcommittee to consider ideas and concepts on motorcoach HOS.

II. Meeting Participation

Oral comments from the public will be heard during the last hour of the meetings on Monday-Wednesday, and during the last 15 minutes of the meeting on Thursday. Members of the public may submit written comments on the topics to be considered during the meeting by Wednesday, November 30, 2011, to Federal Docket Management System (FDMC) Docket Number FMCSA-2006-26367 using any of the following methods:

• Federal eRulemaking Portal: Go to http://www.regulations.gov. Follow the online instructions for submitting comments.

• Fax: 202-493-2251.

• Mail: Docket Management Facility; U.S. Department of Transportation, 1200 New Jersey Avenue SE., West Building, Room W12-140, Washington, DC 20590.

• Hand Delivery: U.S. Department of Transportation, 1200 New Jersey Avenue SE, Room W12-140, Washington, DC, between 9 a.m. and 5 p.m., E.T. Monday through Friday, except Federal holidays.

Issued on: November 15, 2011.
Larry W. Minor,
Associate Administrator for Policy.

[FR Doc. 2011-29960 Filed 11-18-11; 8:45 am]

BILLING CODE 4910-EX-P